DEPARTMENT OF AGRICULTURE

Agricultural Marketing Service

[Doc. No. AMS-TM-14-0005]

USDA Farmers Market Application; Notice of Request for Revision and Extension of a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request approval from the Office of Management and Budget, for an extension of the currently approved information collection for OMB 0581-0229, USDA Farmers Market Application. Copies of this one-time yearly application form to participate in the U.S. Department of Agriculture (USDA) Farmers Market may be obtained by calling the AMS Marketing Services Branch contact listed or visiting the Web site at www.ams.usda.gov/farmersmarkets.

DATES: Comments received by April 25, 2014 will be considered.

Additional Information or Comments: Contact Velma Lakins, Marketing Services Division, Transportation and Marketing Programs, Agricultural Marketing Service, U.S. Department of Agriculture, 1400 Independence Avenue SW., Room 4523 South Building, Ag Stop 0269, Washington, DC 20250-0269; Tel. 202/720-8317, or Fax 202/690-0031. Comments should reference docket number AMS-TMP-14-0005.

SUPPLEMENTARY INFORMATION: Title: USDA Farmers Market Application

OMB Number: 0581-0229.

Expiration Date of Approval: June 30, 2014.

Type of Request: Extension of a currently approved information collection.

Abstract: The Agricultural Marketing Act of 1946 (7 U.S.C. 1621-1627) directs and authorizes the Secretary of Agriculture to conduct, assist, and foster research, investigation, and experimentation to determine the best methods of processing, preparation for market packaging, handling, transporting, distributing, and marketing agricultural products, 7 U.S.C. 1622(a). Moreover, 7 U.S.C. 1622(f) directs and authorizes the Secretary to conduct and cooperate in consumer education for more effective utilization and greater consumption of agricultural products. In addition, 7 U.S.C. 1622(n) authorizes the Secretary to conduct services and to perform activities that will facilitate the marketing and utilization of agricultural products through commercial channels.

On December 23, 2005, the AMS published a final rule in the Federal Register (70 FR 76129) to implement established regulations and procedures under 7 CFR Part 170 for AMS to operate the USDA Farmers Market, specify vendor criteria and selection procedures, and define guidelines to be used for governing the year-round USDA Farmers Market. A one-time yearly submission information collection in a required application form was also established.

The information collection for OMB 0581-0229 USDA Farmers Market Application is required by farms or businesses participating at the USDA Farmers Market. The information allows AMS the means of reviewing the type of products available for sale and selecting participants for the annual market season. The type of information within the application includes: (1) Certification the applicant is the owner or representative of the farm or business; (2) applicant contact information including name(s), address, phone number, and email address; (3) farm or business location; (4) types of products grown; (5) business practices; (6) weekly sales data: and (6) insurance coverage.

Weekly sales data will be collected from the vendors. This information will be useful in letting us know how well the market and vendors are doing overall.

Estimate of Burden: Public reporting burden for this collection of information is estimated to average 0.089 hours per response.

Respondents: Farmers and/or vendors completing the application to participate in the USDA Farmers Market.

Estimated Number of Respondents: 30.

Estimated Total Annual Responses: 572.

Estimated Number of Responses per Respondent: 19.06.

Estimated Total Annual Burden on Respondents: 51.08 hours.

Farmers Market Guidelines:

Estimated Number of Respondents: 14.

Estimated Total Annual Responses: 14.

Estimated Number of Responses per Respondent: 1.

Estimated Total Annual Burden on Respondents: 3.50 hours.

Market vendor sales weekly (outdoor):

Estimated Number of Respondents: 14.

Estimated Total Annual Responses: 336.

Estimated Number of Responses per Respondent: 24.

Estimated Total Annual Burden on Respondents: 27.99 hours.

Market vendor sales weekly (indoor):

Estimated Number of Respondents: 8.

Estimated Total Annual Responses: 192.

Estimated Number of Responses per Respondent: 24.

Estimated Total Annual Burden on Respondents: 15.99 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to the following address:

• Mail: Velma Lakins, Marketing Services Division, Transportation and Marketing Programs, Agricultural Marketing Service, U.S. Department of Agriculture, 1400 Independence Ave. SW., Room 4523 South Building, Ag Stop 0269, Washington, DC 20250-0269.

• Internet: www.regulations.gov

All written comments should be identified with the docket number AMS-TMP-14-0005. All comments received will be available for public inspection during regular business hours at the same address. It is our intention to have all comments whether submitted by mail or internet available for viewing on the Regulations.gov (www.regulations.gov) Internet site. Comments submitted will also be available for public inspection in person at USDA-AMS, Transportation and Marketing Programs, Marketing Services Division, Room 4523-South Building, 1400 Independence Ave. SW., Washington, DC, from 9 a.m. to 12 noon and from 1 p.m. to 4 p.m., Monday through Friday, (except official Federal holidays). Persons wanting to visit the USDA South Building to view comments received are requested to make an appointment in advance by calling (202) 720-8317.

The information collected is used only by authorized employees of the USDA, AMS.

All responses to this notice will be summarized and included in the request for OMB approval. All comments will become a matter of public record.

Dated: February 18, 2014.
Rex A. Barnes,
Associate Administrator, Agricultural Marketing Service.

[FR Doc. 2014-03904 Filed 2-21-14; 8:45 am]

BILLING CODE 3410-02-P